NATIONAL CREDIT UNION ADMINISTRATION

Sunshine Act Meetings; Cancellation

FEDERAL REGISTER CITATION OF PREVIOUS ANNOUNCEMENT: 90 FR 15722.

PREVIOUSLY ANNOUNCED TIME AND DATE OF THE MEETING: 10 a.m., Thursday, April 17, 2025.

CHANGES IN THE MEETING: The Open Meeting scheduled for 10 a.m., Thursday, April 17, 2025 has been cancelled.

CONTACT PERSON FOR MORE INFORMATION: Melane Conyers-Ausbrooks, Secretary of the Board, Telephone: 703-518-6304.

Melane Conyers-Ausbrooks,
Secretary of the Board.

[FR Doc. 2025-06845 Filed 4-16-25; 4:15 pm]

BILLING CODE 7535-01-P